DEPARTMENT OF TRANSPORTATION

Federal Transit Administration (FTA)

Announcement of Fiscal Year 2016 Rides to Wellness Demonstration and Innovative Coordinated Access and Mobility Grants Competitive Program Project Selections

AGENCY: Federal Transit Administration, DOT.

ACTION: Notice.

SUMMARY: The U.S. Department of Transportation's (DOT) Federal Transit Administration (FTA) announces the selection of Rides to Wellness Demonstration and Innovative Coordinated Access and Mobility Program (R2W Program) projects, with $7.2 million of funding from two programs: Section 3006(b) of the Fixing America's Surface Transportation Act (FAST), Public Law 114-94, which authorized a pilot program for innovative coordinated access and mobility at $2 million; and $5.3 million from 49 U.S.C. 5312 (Section 5312). On March 29, 2016, FTA published a Notice of Funding Opportunity (NOFO) (81 FR 17549) announcing the availability of Federal funding for the R2W Program. These program funds will provide financial assistance to States and Designated or Direct Recipients to test promising, replicable public transportation healthcare access solutions that support the following goals: Increased access to care, improved health outcomes and reduced healthcare costs.

FOR FURTHER INFORMATION CONTACT: Successful applicants should contact the appropriate FTA Regional Office for information regarding applying for the funds or program-specific information. A list of Regional Offices can be found at www.transit.dot.gov. Unsuccessful applicants may contact Danielle Nelson, Office of Program Management at (202) 366-2160, email: Danielle.Nelson@dot.gov, to arrange a proposal debriefing within 30 days of this announcement. A TDD is available at 1-800-877-8339 (TDD/FIRS).

SUPPLEMENTARY INFORMATION: In response to the NOFO, FTA received 78 project proposals requesting $28 million from 34 states. Project proposals were evaluated based on each applicant's responsiveness to the program evaluation criteria outlined in the NOFO. FTA is funding 19 projects, as shown here: https://www.transit.dot.gov/funding/grants/fy-2016-rides-wellness-demonstration-and-innovative-coordinated-access-and-mobility and in Table 1, for a total of $7,211,518. Recipients selected for competitive funding should work with their FTA Regional Office to submit a grant application in FTA's Transit Award Management System (TrAMs) for the projects identified in the attached table. Funds must be used consistent with the competitive proposal and for the eligible purposes established in the NOFO and described in the FTA Circular 9070.1G.

Recipients are reminded that program requirements such as cost sharing or local match can be found in the NOFO. A discretionary project identification number has been assigned to each project for tracking purposes and must be used in the TrAMs application.

Selected projects are eligible to incur costs under pre-award authority no earlier than the date projects were publicly announced, September 12, 2016. Pre-award authority does not guarantee that project expenses incurred prior to the award of a grant will be eligible for reimbursement, as eligibility for reimbursement is contingent upon other requirements. For more about FTA's policy on pre-award authority, please see the FTA Fiscal Year 2016 Apportionments, Allocations, and Program Information and Interim Guidance found in 81 FR 7893 (February 16, 2016). Post-award reporting requirements include submission of the Federal Financial Report and Milestone progress reports in TrAMs as appropriate (see FTA.C.5010.1D). Recipients must comply with all applicable Federal statutes, regulations, executive orders, FTA circulars, and other Federal requirements in carrying out the project supported by the FTA grant. FTA emphasizes that recipients must follow all third-party procurement guidance, as described in FTA.C.4220.1F. Funds allocated in this announcement must be obligated in a grant by September 30, 2018.

Carolyn Flowers,
Acting Administrator.

Table 1—FY 16 Grants for Rides to Wellness Competition Project Selections
State | Recipient | Project ID | Project description | Allocation
MD | Maryland Transit Administration | D2016-RTWD-001 | The Maryland Transit Administration will receive $103,344 to increase the capacity of a mobility management program that addresses barriers for low-income individuals in Allegany County western Maryland who lack reliable access to transportation to receive non-emergency medical care. The program, which will be updated with transportation coordination software, coordinates and provides transportation to and from non-emergency medical appointments at no cost to the individuals | $103,334
CA | Riverside County Transportation Commission | D2016-RTWD-002 | Riverside County Transportation Commission and its partner organizations will receive $185,753 for the Blythe Wellness Express, a program that provides access to preventative healthcare for South California residents. This travel navigator/mobility management coordination project will address access to services in an underserved area and involve staff from the public transit agency, healthcare providers and community volunteers. An evaluation piece will document health-related outcomes | 185,753
PA | Pennsylvania Department of Transportation | D2016-RTWD-003 | The Pennsylvania Department of Transportation will receive $1,190,000 to fund FindMyRidePA. a one-call, one-click center and real-time transportation service serving a three-county area in central Pennsylvania. Building off the one-call center concept developed from an FTA-funded Veterans Transportation and Community Living Initiative project, the project will address the challenge of missed health appointments due to a lack of transportation in a targeted community, then scale it for deployment in other areas of the state | 1,190,000
IL | Rides Mass Transit District | D2016-RTWD-004 | Rides Mass Transit District of Illinois will receive $518,844 to establish a “one-call” center, expand mobility management services for patients at risk of re-hospitalization, and initiate transportation coordination for patients seeking drug abuse and mental health services in southern Illinois with a high rate of mental health and substance abuse and a disproportionately low number of healthcare providers. The project is intended to close the gap in access to mental health for patients due to transportation challenges in rural areas and builds on a 2015 FTA-funded Rides to Wellness Healthcare Access Challenge Grant | 518,844
MI | Michigan Department of Transportation | D2016-RTWR-001-001 | The Michigan Department of Transportation will receive $1 million to expand a brokerage-based program currently only available in certain parts of the state to a statewide model. The program manages and delivers non-emergency medical transportation for older adults, people with low incomes, and people with disabilities, ensuring they have access to non-emergency healthcare. The coordination software records trips reserved by county in each region based on trip types, procedures and clinic visits. Local health centers will integrate the software and refer clients to the service | 1,006,387
VT | Vermont Agency of Transportation | D2016-RTWR-001-002 | The Vermont Agency of Transportation will receive $170,000 to develop a program to train staff at Community Health Services to act as mobility managers to help individuals in the Ascutney, Windsor and St. Johnsbury regions of Vermont schedule and attend medical appointments. This will lead to better health outcomes, a reduction in missed appointments, and a reduction in the use of emergency services for routine medical care. Modeled on a program in another region of Vermont, the mobility managers will help patients, medical providers and social service agencies identify individuals most at risk and provide alternative transportation options via local transit providers | 170,000
MI | Flint Mass Transportation Authority | D2016-RTWR-001-003 | The Flint Mass Transportation Authority will receive $310,040 to develop a mobility management program, including coordinated non-emergency medical transportation, trip planning and training. The program will provide rides to wellness appointments for behavioral health patients, dialysis patients, and primary/urgent care for families, and elderly and elderly disabled patients in Flint and nearby Genesee County, both of which are impacted by Flint's municipal water crisis. Building on a 2015 FTA-funded Healthcare Access Mobility Design Challenge Grant, the project will improve local coordination and access in the community | 310,040
MA | Montachusett Regional Transit Authority | D2016-RTWR-001-004 | Montachusett Regional Transit Authority will receive $200,000 to implement a technology that analyzes routing and dispatching among several providers to integrate management of rides to healthcare in western Massachusetts and boost under-used fixed route and paratransit services. The software will allow paratransit and Council on Aging systems to bid on demand response, long-term and shared ride contracts so people seeking fixed route, paratransit and senior ride services can request additional rides or mix rides to maximize efficiencies. The software also will determine if a provider has the capacity to deliver service | 200,000
FL | Jacksonville Transportation Authority | D2016-RTWR-001-005 | The Jacksonville Transportation Authority will receive $399,200 to develop a software interface connecting medical scheduling programs and transit schedules to generate transit travel times and costs for healthcare receptionists and patients as they choose appointments. With the potential to link a large number of healthcare providers to mobility management nationally, the project will provide a pilot data set to prove the value of linking transportation options with medical appointments | 399,200
TN | Knoxville Area Transit | D2016-RTWR-001-006 | Knoxville Area Transit will receive $200,000 to expand its 2-1-1 call center as a single point of entry for older adults and people with disabilities to access transit to healthcare facilities in the region. The project will improve local coordination and access in the community and train public information staff, healthcare providers and residents on how to use KAT buses | 200,000
GA | Atlanta Regional Commission | D2016-RTWR-001-007 | The Atlanta Regional Commission will receive $337,628 to provide travel training, free transit passes over a six-month period, and paratransit or reduced fare enrollment assistance to at least 200 individuals to be selected from four area health centers. The program will address the difficulty in accessing medical services via paratransit by bolstering a travel training and mobility management effort and leveraging creative community partnerships. A regional summit will explore future opportunities for collaboration, identify barriers and propose solutions | 337,628
NY | Niagara Frontier Transportation Authority | D2016-RTWR-001-008 | The Niagara Frontier Transportation Authority will receive $468,566 to fund transportation to prenatal healthcare appointments for low-income, high-risk pregnant women in Buffalo, NY. The project provides participants with a transit pass as well as guidance on how to use the public transportation system for healthcare appointments. The project concept was formed through a HUD Sustainable Communities Initiative and a 2015 FTA-funded Healthcare Access Mobility Design Challenge grant | 468,566
CA | San Diego Association of Governments | D2016-RTWR-001-009 | The San Diego Association of Governments will receive $160,000 to coordinate rides for patients, both those traveling from emergency rooms to hospitals for admission and discharged patients traveling to pharmacies, treatments or their homes. The project will apply mobility management as part of hospital discharge planning, helping patients learn about how to attend healthcare appointments as well as wellness activities using public transportation | 160,000
MI | Detroit Department of Transportation | D2016-RTWR-001-010 | The Detroit Department of Transportation will receive $509,475 to increase mobility for older adults, particularly city residents with lower incomes and/or disabilities, to non-emergency medical care. The project will use scheduling software that improves efficiency and coordination between transportation and healthcare providers, as well as offer transportation to health/wellness/prevention activities such as recreation centers, parks, and farmers markets | 509,475
IA | Iowa Department of Transportation | D2016-RTWR-001-011 | The Iowa Department of Transportation will receive $130,560 for the Delaware County Connections Program, a rural, volunteer-based transit service that will improve the coordination of non-emergency medical transportation and provide healthcare access for people with low incomes, older adults and individuals with intellectual challenges. The project focuses on rides to wellness activities at senior centers, farmers markets and support groups | 130,560
NH | New Hampshire Department of Transportation | D2016-RTWR-001-012 | The New Hampshire Department of Transportation will receive $182,880 to fund the Bridge to Integration Project, a technology that will bridge the gap between Medicaid-funded transportation brokers and NHDOT's coordination software vendor system, an innovation that will be tested at three pilot sites. The sites will test the new technology with the goal of increasing access to transportation for healthcare appointments for Medicaid recipients, older adults and people with disabilities. Under NH's managed care model authorized in 2011, all Medicaid populations are to be enrolled in a managed care program. The result has been an increase in the Medicaid care management population. By partnering with the brokers and implementing a coordination software system, it will allow more efficient and effective coordination of transportation resources and assets throughout the state | 182,880
MO | Bi-State Development Agency | D2016-RTWR-001-013 | The Bi-State Development Agency of St. Louis, MO, will receive $940,251 for its Gateway Program, which features a public health mobile clinic that provides health screenings such as blood pressure and cholesterol tests at MetroLink Public Transportation Stations in north St. Louis County. This public transit and healthcare partnership creates a bridge between silos by serving the healthcare needs of public transit riders along their route. The program includes non-emergency medical transportation to and from appointments using transit subsidies, and is designed to provide underserved residents with a bridge in care until they are able to enroll in health insurance coverage options available through the Affordable Care Act | 940,251
OH | Ohio Department of Transportation | D2016-RTWR-001-014 | The Ohio Department of Transportation will receive $133,000 to fund the Mommy and Me Ride for Free program on behalf of the Hospital Council of Northwest Ohio. The project, which improves coordination and access in Lucas County by leveraging existing transportation options, will provide pregnant women and women with infants access to transportation. Using the TARPS and TARTA transit systems, women will increase their access to healthcare, leading to better birth outcomes and improved health status for both mother and baby | 133,000
NC | Research Triangle Regional Public Transportation Authority | D2016-RTWR-001-015 | The Research Triangle Regional Public Transportation Authority of Durham, N.C., will receive $65,600 to expand the Go Triangle Regional Call Center to improve coordinated transit planning and application assistance for paratransit riders who are low-income, uninsured or have mental health special needs. By co-locating paratransit mobility management services with fixed route mobility management services, the project will increase access to care. The project builds on a 2015 FTA-funded Healthcare Access Challenge Grant that tested solutions for transportation for low income, uninsured, or Medicaid consumers of behavior healthcare and developed a plan to implement solutions | 65,600

Total: $7,211,518.

[FR Doc. 2016-27157 Filed 11-9-16; 8:45 am]

BILLING CODE 4910-57-P